DEPARTMENT OF COMMERCE

National Oceanic and Atmospheric Administration

Proposed Information Collection; Comment Request; Commercial Fishing Vessel Cost and Earnings Data Collection Survey in the Northeast Region

AGENCY: National Oceanic and Atmospheric Administration (NOAA), Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before July 8, 2011.

ADDRESSES: Direct all written comments to Diana Hynek, Departmental Paperwork Clearance Officer, Department of Commerce, Room 6616, 14th and Constitution Avenue, NW., Washington, DC 20230 (or via the Internet at dHynek@doc.gov).

FOR FURTHER INFORMATION CONTACT: Requests for additional information or copies of the information collection instrument and instructions should be directed to Andrew Kitts, (508) 495-2231 or akitts@mercury.wh.whoi.edu.

SUPPLEMENTARY INFORMATION:

I. Abstract

This request is for a new information collection.

Economic data on the costs of operating commercial fishing businesses are needed by the National Marine Fisheries Service (NMFS) to meet the legislative requirements of the Magnuson-Stevens Fishery Conservation and Management Act, the National Environmental Policy Act, Executive Order 12866 and the Regulatory Flexibility Act. The Social Sciences Branch (SSB) of the NMFS, Northeast Fisheries Science Center (NEFSC) is responsible for estimating the economic and social impacts of fishery management actions.

Lack of information on vessel operating costs has severely limited the ability of the SSB to assess fishermen's behavioral responses to changes in regulations, fishing conditions, and market conditions. Establishing an on-going, consistent, data collection program will enable the SSB to provide a level of analysis that meets the needs of the New England Fishery Management Council, the Mid-Atlantic Fishery Management Council and NMFS, on behalf of the Secretary of Commerce, to make informed decisions about the expected economic effects of proposed management alternatives.

II. Method of Collection

The survey will be administered via mail and online. Vessel owners will receive a survey packet via mail, which will contain a password and a secured link to an online version of the survey. Vessel owners will be given the option of completing the survey online or by mail.

III. Data

OMB Control Number: None.

Form Number: NA.

Type of Review: Regular submission (request for a new information collection).

Affected Public: Individuals or households; business or other for-profit organizations.

Estimated Number of Respondents: 1,280.

Estimated Time per Response: 1 hour.

Estimated Total Annual Burden Hours: 1,280.

Estimated Total Annual Cost to Public: $0 in recordkeeping/reporting costs.

IV. Request for Comments

Comments are invited on:

(a) Whether the proposed collection of information is necessary for the proper performance of the functions of the agency, including whether the information shall have practical utility;

(b) The accuracy of the agency's estimate of the burden (including hours and cost) of the proposed collection of information;

(c) Ways to enhance the quality, utility, and clarity of the information to be collected; and

(d) Ways to minimize the burden of the collection of information on respondents, including through the use of automated collection techniques or other forms of information technology.

Comments submitted in response to this notice will be summarized and/or included in the request for OMB approval of this information collection; they also will become a matter of public record.

Dated: May 4, 2011.
Gwellnar Banks,
Management Analyst, Office of the Chief Information Officer.

[FR Doc. 2011-11214 Filed 5-6-11; 8:45 am]

BILLING CODE 3510-22-P